NATIONAL TRANSPORTATION SAFETY BOARD

Sunshine Act Meeting

TIME AND PLACE: 9:30 a.m., Wednesday, September 4, 2002.

PLACE: NTSB Conference Center, 4291 L'Enfant Plaza SW., Washington, DC 20594.

STATUS: The two items are Open to the Public.

MATTERS TO BE CONSIDERED: 7488 Railroad Special Investigation Report—Two Rear-End Collisions Involving Chicago Transit Authority Rapid Transit Trains at Chicago, Illinois, on June 17 and August 3, 2001.

7409 Highway Accident Report—Collision Between Truck-Tractor Semitrailer and School Bus near Mountainburg, Arkansas, on May 31, 2001.

NEWS MEDIA CONTACT: Telephone: (202) 314-6100.

Individuals requesting specific accommodations should contact Ms. Carolyn Dargan at (202) 314-6305 by Friday, August 30, 2002.

FOR MORE INFORMATION CONTACT: Vicky D'Onofrio, (202) 314-6410.

Dated: August 23, 2002.
Vicky D'Onofrio,
Federal Register Liaison Officer.

[FR Doc. 02-21966 Filed 8-26-02; 10:50 am]

BILLING CODE 7533-01-M